DEPARTMENT OF HOMELAND SECURITY

Coast Guard

33 CFR Part 165

[Docket No. USCG-2025-0677]

Safety Zone; Ski Show Sylvan Beach Eastern Great Lakes COTP Zone

AGENCY: Coast Guard, DHS.

ACTION: Notification of enforcement of regulation.

SUMMARY: The Coast Guard will enforce special local regulations for the Ski Show Sylvan Beach on August 10, 2025, to provide for the safety of life on navigable waterways during this event. Our regulation for marine events within the Great Lakes Coast Guard District identifies the regulated area for this event in Sylvan Beach, NY. During the enforcement periods, the operator of any vessel in the regulated area must comply with directions from the Patrol Commander or any Official Patrol displaying a Coast Guard ensign.

DATES: The regulations in 33 CFR 165.939 will be enforced for the Ski Show Sylvan Beach regulated area listed in paragraph (h) item no. 5 in Table 1 to § 165.939, from 11 a.m. through 8 p.m. on August 10, 2025.

FOR FURTHER INFORMATION CONTACT: If you have questions about this notification of enforcement, call or email MST1 Shawn Keeman, Marine Safety Unit Thousand Islands, Coast Guard; telephone 315-774-8546, Shawn.R.Keeman@uscg.mil.

SUPPLEMENTARY INFORMATION: The Coast Guard will enforce special local regulations in 33 CFR 165.939 for the Ski Show Sylvan Beach regulated area listed in paragraph (h) item no. 5 in Table 1 to § 165.939, from 11 a.m. to 8 p.m. on August 10, 2025. This action is being taken to provide for the safety of life on navigable waterways during this event. Our regulation for marine events within the Great Lakes Coast Guard District, paragraph (h) item no. 5 in Table 1 to § 165.939, specifies the location of the regulated area for the Ski Show Sylvan Beach which encompasses portions of Oneida Lake and Fish Creek. During the enforcement periods, § 165.939, if you are the operator of a vessel in the regulated area, you must comply with directions from the Patrol Commander or any Official Patrol displaying a Coast Guard ensign.

In addition to this notification of enforcement in the Federal Register, the Coast Guard plans to provide notification of this enforcement period via the Local Notice to Mariners and Broadcast Notice to Mariners.

Dated: July 28, 2025.
M.J. Walter,
Captain, U.S. Coast Guard, Captain of the Port Eastern Great Lakes.

[FR Doc. 2025-14654 Filed 7-31-25; 8:45 am]

BILLING CODE 9110-04-P